DEPARTMENT OF HEALTH AND HUMAN SERVICES

Centers for Disease Control and Prevention

[30Day-40-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Travelers' Health Survey, OMB No. 0920-0519—Reinstatement—National Center for Infectious Diseases (NCID), Centers for Disease Control and Prevention (CDC). Approximately 58 million Americans travel abroad each year, and over a third travel to developing countries where the risk is greater for contracting infectious diseases. Many of these diseases are preventable through vaccines, drugs, and other preventive measures. According to surveillance data from the CDC, over 99% of malaria, 72% of typhoid, and 7% of hepatitis A cases in the U.S. are acquired abroad. Information on preventing illness during travel is available free or at little cost through public health departments, a CDC toll-free fax system, and the Internet. However, many travelers may be unaware of the health risks they face when traveling because they either lack access to pre-travel health services or do not understand the measures necessary to avoid health risks. Evidence shows first- and second-generation U.S. immigrants that travel to their countries of origin to visit friends and relatives may be at a greater risk for contracting infectious diseases.

The objectives of this project are to determine: (i) Whether travelers seek pre-travel health information; (ii) where they access this information; (iii) travelers' baseline knowledge of prevention measures for diseases commonly associated with travel; and (iv) whether specific groups of travelers (i.e. first- and second-generation immigrants) lack information on or access to pre-travel health recommendations and services. To accomplish these objectives, in partnership with Delta Airlines, CDC proposes to conduct voluntary, self-administered, anonymous, in-flight surveys of U.S. citizens and residents traveling abroad to areas where malaria, typhoid fever, and hepatitis A are endemic.

This preliminary project will focus on first- and second-generation U.S. immigrants from India visiting friends and relatives in India, where all three diseases are endemic. A study period of 2 to 3 months is estimated. Data from this project will fulfill Healthy People 2010 objectives for travelers. In addition, it will enable CDC to develop appropriate educational interventions for high-risk travelers and to gain a better understanding of the role of travel in emerging infectious diseases. The survey tool will take approximately 15 to 20 minutes to complete. Delta Airlines has agreed to cover all costs for printing the surveys. The estimated annualized burden is 1,400 hours.

Respondents | Number of respondents | Number of responses/ respondent | Average burden/response (in hrs)
Travelers (Delta Airline International Flight Passengers) | 5,600 | 1 | 15/60

Dated: April 16, 2004.
Bill J. Atkinson,
Acting Director, Management Analysis and Services Office, Centers for Disease Control and Prevention.

[FR Doc. 04-9236 Filed 4-22-04; 8:45 am]

BILLING CODE 4163-18-P